DEPARTMENT OF EDUCATION

National Assessment Governing Board

Meeting; National Assessment Governing Board

AGENCY: National Assessment Governing Board, Department of Education.

ACTION: Notice of open and closed meetings.

SUMMARY: This notice sets forth the agenda, time, and instructions to access or participate in the National Assessment Governing Board (hereafter referred to as Governing Board or Board) meetings scheduled for November 16-18, 2022 in Washington DC. This notice provides information about the meetings to members of the public who may be interested in attending the meetings and/or providing written comments related to the work of the Governing Board. Notice of the meetings is required under Section 10(a)(2) of the Federal Advisory Committee Act (FACA).

ADDRESSES: The Mayflower Hotel, 1127 Connecticut Ave. NW, Washington, DC 20036.

DATES: November 16-18, 2022.

FOR FURTHER INFORMATION CONTACT: Munira Mwalimu, Executive Officer/Designated Federal Official for the Governing Board, 800 North Capitol Street NW, Suite 825, Washington, DC 20002, telephone: (202) 357-6906, fax: (202) 357-6945, email: Munira.Mwalimu@ed.gov.

SUPPLEMENTARY INFORMATION:

Statutory Authority and Function: The Governing Board is established under the National Assessment of Educational Progress Authorization Act, Title III of Public Law 107-279 (20 U.S.C. 9621). Information on the Governing Board and its work can be found at www.nagb.gov. The Governing Board formulates policy for the National Assessment of Educational Progress (NAEP) administered by the National Center for Education Statistics (NCES). The Governing Board's responsibilities include:

“(1) selecting the subject areas to be assessed; (2) developing appropriate student achievement levels; (3) developing assessment objectives and testing specifications that produce an assessment that is valid and reliable, and are based on relevant widely accepted professional standards; (4) developing a process for review of the assessment which includes the active participation of teachers, curriculum specialists, local school administrators, parents, and concerned members of the public; (5) designing the methodology of the assessment to ensure that assessment items are valid and reliable, in consultation with appropriate technical experts in measurement and assessment, content and subject matter, sampling, and other technical experts who engage in large scale surveys; (6) measuring student academic achievement in grades 4, 8, and 12 in the authorized academic subjects; (7) developing guidelines for reporting and disseminating results; (8) developing standards and procedures for regional and national comparisons; (9) taking appropriate actions needed to improve the form, content use, and reporting of results of an assessment; and (10) planning and executing the initial public release of NAEP reports.”

Orientation Meeting and Standing Committee Meetings

The Governing Board's standing committees will meet to conduct regularly scheduled work planned for the quarterly board meeting and any items undertaken by standing committees for consideration by the full Governing Board. (Please see committee meeting minutes for previous meetings, available at https://www.nagb.gov/governing-board/quarterly-board-meetings.html). Standing committee meeting agendas and meeting materials will be posted on the Governing Board's website, www.nagb.gov, no later than five business days prior to the meetings.

Standing Committee Meetings

Wednesday, November 16, 2022

New Member Orientation Meeting (Closed Session)

12:30 p.m.-5:15 p.m.

A new member orientation meeting will convene in closed session on November 16, 2022, from 12:30 p.m. to 5:15 p.m. The meeting agenda will cover topics related to member onboarding and include presentations from the Governing Board and the National Center for Education Statistics (NCES). These discussions pertain solely to internal personnel rules and practices of an agency. As such, the discussions are protected by exemption 2 of the Government Sunshine Act, 5 U.S.C. 552b(c).

Thursday, November 17, 2022

Executive Committee Meeting

8:00 a.m.-8:35 a.m. (Open Session)

8:35 a.m.-9:30 a.m. (Closed Session)

The Executive Committee will meet in closed session on November 17, 2022, from 8:35 a.m. to 9:30 a.m. to receive two briefings. The first briefing will be led by Lesley Muldoon, the Governing Board Executive Director, on the Governing Board's budget. The second briefing will be led by Peggy Carr, Commissioner, National Center for Education Statistics (NCES) on the NAEP Budget and Assessment Schedule. These discussions must be kept confidential to maintain the integrity of the federal budgeting and acquisition processes. Public disclosure of this confidential information would significantly impede implementation of the NAEP assessment program if conducted in open session. Such matters are protected by exemption 9(B) of the Government Sunshine Act, 5 U.S.C. 552b(c).

Thursday, November 17, 2022

Reporting and Dissemination Committee (R&D)

3:30 p.m.-5:30 p.m. (Open Session)

Thursday, November 17, 2022

Assessment Development Committee

3:30 p.m.-5:00 p.m. (Open Session)

5:00 p.m.-5:30 p.m. (Closed Session)

The Assessment Development Committee will meet in closed session on November 17, 2022, to preview initial results from pretesting of NAEP Mathematics and Reading Items assessment items. These items have not been released to the public. Public disclosure of this confidential information would significantly impede implementation of the NAEP assessment program if conducted in open session. Such matters are protected by exemption 9(B) of the Government Sunshine Act, 5 U.S.C. 552b(c).

Thursday, November 17, 2022

Committee on Standards, Design and Methodology

3:30 p.m.-5:00 p.m. (Open Session)

5:00 p.m.-5:30 p.m. (Closed Session)

The Committee on Standards, Design and Methodology will meet in closed session on November 17, 2022, to receive an update on the Achievement Level Description Review Pilot Study for U.S. History, Civics, and Science. This session is closed because preliminary study data will be shared from a pilot study intended to inform an operational study. Results are not public; they are to inform the Committee on study procedures to include panelists' preparation to for understanding the secure data and performing assigned tasks. Public disclosure of this confidential information would significantly impede implementation of the NAEP assessment program if conducted in open session. Such matters are protected by exemption 9(B) of the Government Sunshine Act, 5 U.S.C. 552b(c).

Friday, November 18, 2022

Nominations Committee Meeting (Closed Session)

7:30 a.m.-8:45 a.m.

The Nominations Committee will meet in closed session on November 18, 2022, from 7:30 a.m. to 8:45 a.m. to review applications for Board vacancies for the 2023-2024 term and discuss the rating process and member assignments for the ratings. These discussions pertain solely to internal personnel rules and practices of an agency and information of a personal nature where disclosure would constitute a clearly unwarranted invasion of personal privacy. As such, the discussions are protected by exemptions 2 and 6 of the Government Sunshine Act, 5 U.S.C. 552b(c).

Quarterly Governing Board Meeting

The plenary sessions of the Governing Board's November 2022 quarterly meeting will be held on the following dates and times:

Thursday, November 17, 2022

Open Meeting: 9:45 a.m.-3:30 p.m.

Friday, November 18, 2022

Open Meeting: 9:00 a.m.-3:30 p.m.

November 17, 2022, Meeting:

On Thursday, November 17, 2022, the plenary session of the Governing Board meeting will convene in open session from 9:45 a.m. to 3:30 p.m. The meeting will start with welcome remarks from Beverly Perdue, Chair of the Governing Board, followed by a motion to approve the November 17-18, 2022, quarterly Governing Board meeting agenda and minutes from the August 4-5, 2022, quarterly Governing Board meeting. Thereafter, from 10:00 a.m. to 10:15 a.m., Secretary Cardona will administer the Oath of Office to three new members and a reappointed member and provide remarks. From 10:15 a.m. to 10:45 a.m. new members and the reappointed member will introduce themselves and provide remarks.

Lesley Muldoon, Executive Director of the Governing Board, will update members on ongoing work from 11:00 a.m. to 11:30 a.m. followed by an update from Peggy Carr, Commissioner, NCES, on NAEP activities from 11:30 a.m. to 12:00 p.m.

From 12:00 p.m. to 12:30 p.m., members will engage in a discussion on the Governing Board's multi-pronged strategy to communicate key results from the 2022 Nation's Report Card for Grades 4 and 8 in reading and mathematics, followed by a 15-minute break. From 12:45 p.m. to 1:45 p.m. members will meet in small groups to discuss most effective next steps for communicating and disseminating NAEP findings and promoting the data's utility and value. The members will debrief on the small group discussions from 2:00 p.m. to 2:45 p.m.

The Institute of Education Sciences (IES) Director, Mark Schneider, will provide an IES update from 2:45 p.m. to 3:15 p.m. Thereafter members will convene in standing committee meetings from 3:30 p.m. to 5:30 p.m. The November 17, 2022, session of the Board meeting will adjourn at 5:30 p.m.

Friday, November 18, 2022

The November 18, 2022, plenary session will begin with a closed session briefing on the NAEP Budget and Assessment Schedule from 9:00 a.m. to 10:30 a.m. After a 15-minute break, members will receive a briefing on recommendations from the science assessment framework steering panel from 10:45 a.m. to 12:00 p.m. Members will then take a 15-minute break and hear from a State Panel on NAEP Results from 12:15 p.m. to 2:15 p.m. After a 15-minute break, members will have open discussion time from 2:30 p.m. to 3:00 p.m. The final session of the November 18, 2022, meeting will take place from 3:00 p.m. to 3:30 p.m. to receive briefings from committee meetings. The Board will take action on the selection of the TUDA District after the committee briefings. The November 18, 2022, session of the Governing Board meeting will adjourn at 3:30 p.m.

The quarterly board meeting and standing committee meeting agendas, along with the meeting materials, will be posted on the Governing Board's website at www.nagb.gov no later than five working days prior to each meeting.

Instructions for Participating in the Meetings

Registration: Members of the public may attend in-person to all open sessions of the Governing Board's November 17-18, 2022 meetings. A link to register for virtual attendance for the open sessions and instructions for how to register will be posted on the Governing Board's website at www.nagb.gov no later than 5 business days prior to the meeting. Registration is required to join the meeting virtually.

Public Comment: Written comments related to the work of the Governing Board and its committees may be submitted electronically or in hard copy to the attention of the Executive Officer/Designated Federal Official (DFO) via email at Munira.Mwalimu@ed.gov no later than 10 business days prior to the meeting. Written comments should be directed to the DFO as they relate to committee and Board meeting work and should reference the relevant agenda item.

Access to Records of the Meeting: Pursuant to the FACA requirements, the public may inspect the meeting materials at www.nagb.gov, which will be made available no later than five business days prior to each meeting. The public may also inspect the meeting materials 800 North Capitol Street NW, Suite 825, Washington, DC 20002, by emailing Munira.Mwalimu@ed.gov to schedule an appointment. The official verbatim transcripts of the open meeting sessions will be available for public inspection no later than 30 calendar days following each meeting and will be posted on the Governing Board's website. Requests for the verbatim transcriptions may be made via email to the DFO noted above.

Reasonable Accommodations: The meeting location is accessible to individuals with disabilities. If you will need an auxiliary aid or service to participate in the meeting (e.g., interpreting service, assistive listening device, or materials in an alternate format), notify the DFO listed in this notice no later than ten working days prior to each meeting date.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, Title III, § 301—National Assessment of Educational Progress Authorization Act (20 U.S.C. 9621).

Lesley Muldoon,
Executive Director, National Assessment Governing Board (NAGB), U.S. Department of Education.

[FR Doc. 2022-23323 Filed 10-25-22; 8:45 am]

BILLING CODE 4000-01-P